DEPARTMENT OF AGRICULTURE

Forest Service

Plumas County Resource Advisory Committee (RAC)

AGENCY: Forest Service, USDA.

ACTION: Notice of meeting.

SUMMARY: The Plumas County Resource Advisory Committee (RAC) will hold a meeting on June 5, 2009, in Quincy, CA. The purpose of the meeting is to review applications for Cycle 9 funding and select projects to be recommended to the Plumas National Forest Supervisor for calendar year 2010 funding consideration. The funding is available under Title II provisions of the Secure Rural Schools and Community Self Determination Act of 2000.

DATES and ADDRESS: The meeting will take place from 9-3 at the Mineral Building Plumas/Sierra County Fairgrounds, 208 Fairgrounds Road, Quincy, CA.

FOR FURTHER INFORMATION CONTACT: (or for special needs): Lee Anne Schramel Taylor, Forest Coordinator, USDA, Plumas National Forest, P.O. Box 11500/159 Lawrence Street, Quincy, CA, 95971; (530) 283-7850; or by E-mail eataylor@fs.fd.us.

SUPPLEMENTARY INFORMATION: Agenda items for the June 5 meeting include: (1) Forest Service Update; (2) Committee Review of Applications; and, (3) Recommendations for Cycle 9 funding distribution. The meetings are open to the public and individuals may address the Committee after being recognized by the Chair. Other RAC information may be obtained at http://www.fs.fed.us/srs.

Dated: May 14, 2009.
Terri Simon Jackson,
Land Management Planning Staff Officer.

[FR Doc. E9-11887 Filed 5-21-09; 8:45 am]

BILLING CODE M